DEPARTMENT OF THE INTERIOR

Fish and Wildlife Service

Information Collection To Be Submitted to the Office of Management and Budget for Approval Under the Paperwork Reduction Act

AGENCY: Fish and Wildlife Service, Interior.

ACTION: Notice; request for comments.

SUMMARY: We will submit the collection of information listed below to OMB for approval under the provisions of the Paperwork Reduction Act. We have included a copy of the information collection requirement in this notice. If you wish to obtain copies of the proposed information collection requirement, related forms, and explanatory material, contact the Service Information Collection Clearance Officer at the address listed below.

DATES: You must submit comments on or before April 10, 2000.

ADDRESSES: Send your comments on the requirement to the Information Collection Clearance Officer, U.S. Fish and Wildlife Service, Room 222 ARLSQ, 1849 C Street, NW, Washington, DC 20204.

FOR FURTHER INFORMATION CONTACT: To request a copy of the information collection request, explanatory information, and related forms, contact Rebecca A. Mullin at (703) 358-2287 or electronically to rmullin@fws.gov.

SUPPLEMENTARY INFORMATION: The Office of Management and Budget (OMB) regulations at 5 CFR part 1320, which implement provisions of the Paperwork Reduction Act of 1995 (Public Law 104-13), require that interested members of the public and affected agencies have an opportunity to comment on information collection and recordkeeping activities (see 5 CFR 1320.8(d)). We plan to submit a request to OMB to renew approval of the collection of information for special use permit applications on national wildlife refuges in Alaska. We are requesting a 3-year term of approval for this information collection activity. An agency may not conduct or sponsor, and a person is not required to respond to a collection of information unless it displays a currently valid OMB control number.

Title: Special Use Permit Applications on National Wildlife Refuges in Alaska.

Approval Number: 1018-0014.

Service Form Number: 3-2001.

Description and use: The National Wildlife Refuge System Improvement Act of 1997 that amends the National Wildlife Refuge Administration Act of 1966 (16 U.S.C. 668 dd-ee) requires that we authorize economic privileges on any national wildlife refuge by permit only when the activity will not be incompatible with the purposes for which the refuge was established. The Alaska National Interest Lands Conservation Act (ANILCA) provides for the disposition and use of a variety of federally owned lands in Alaska. Section 1307 of ANILCA contains two provisions concerning persons and entities who we are to give special rights and preferences with respect to providing “visitor services” on certain lands under the administration of the Secretary of the Interior (Secretary), in this context, units of the National Wildlife Refuge System. The term, “visitor services,” is defined in section 1307 as “* * * any service made available for a fee or charge to persons who visit a conservation system unit, including such services as providing food, accommodations, transportation, tours and guides, excepting the guiding of sport hunting and fishing.” Other sections of ANILCA allow the Secretary to permit uses on national wildlife refuges in Alaska under certain conditions. Specifically, section 1303 of ANILCA states that we will issue no special use permits unless the permit applicant provides certain items of information.

We will provide the permit applications as requested by interested Alaska citizens. We will use information provided on the required written forms and/or verbal applications to ensure that the applicant is eligible for non-competitively awarded permits, or in the case of competitively awarded permits, the most qualified applicant to receive benefits of a refuge permit. In the case of “1307” permits, we will use the information to determine whether the applicant is: a member of a Native Corporation; a local resident; engaged in adequately providing visitors services on or before January 1, 1979; or eligible to receive Cook Inlet Region rights.

We make provision in our general refuge regulations for public entry for specialized purposes, including economic activities such as the operation of guiding and other visitor services on refuges by concessionaires or cooperators under appropriate contracts or legal agreements (found in 50 CFR 25.61) or special use permits (found in 50 CFR parts 26.22(b) and 26.25). These rules provide the authorities and procedures for selecting permittees on Alaska refuges, the vast majority of which are providers of services and facilities to the public. We will issue permits for a specific period as determined by the type and location of the use or visitor service provided.

Frequency of Collection: On occasion.

Description of Respondents: Individuals and households; Business and other for-profit; Not-for-profit institutions; Farms; and State, local or Tribal governments.

Total Annual Burden Hours: (see table below).

Information Collection Burden Estimate
Type of permit | Competitive respondents | Non-competitive respondents
Visitor Services:
Hunting and Fishing | 50 | 160
Completion time | 30 hours | 1.5 hours
Annual burden hours | 1,500 hour | 240 hours
Total annual burden hours: 1,740
Visitor Services:
General | 2
Completion time | 40 hours
Annual burden hours: 80
Combined Annual Burden:
Number of responses: 212
Average burden per response: 8.6 hours
Annual burden: 1,820 hours

We invite comments concerning this renewal on (1) Whether the collection of information is necessary for the proper performance of our migratory bird management functions, including whether the information will have practical utility; (2) The accuracy of our estimate of the burden of the collection of information; (3) Ways to enhance the quality, utility, and clarity of the information to be collected; and (4) Ways to minimize the burden of the collection of information on respondents. The information collections in this program are part of a system of record covered by the Privacy Act (5 U.S.C. 552(a)).

Dated: February 1, 2000.
Paul R. Schmidt,
Acting Assitant Director for Refuges and Wildlife.

[FR Doc. 00-2809 Filed 2-8-00; 8:45 am]

BILLING CODE 4310-55-U